DEPARTMENT OF COMMERCE

International Trade Administration

[A-475-703]

Granular Polytetrafluoroethylene Resin From Italy: Final Results of Expedited Sunset Review of the Antidumping Duty Order

AGENCY: Import Administration, International Trade Administration, Department of Commerce.

DATES: Effective Date: March 9, 2011.

SUMMARY: On November 1, 2010, the Department of Commerce (“Department”) initiated the third sunset review of the antidumping duty order on granular polytetrafluoroethylene resin (“PTFE resin”) from Italy. The Department has conducted an expedited sunset review of this order. As a result of this review, the Department finds that revocation of the antidumping duty order would be likely to lead to continuation or recurrence of dumping at the margins identified in the Final Results of Review section of this notice.

FOR FURTHER INFORMATION CONTACT: Joseph Shuler or Nancy Decker, AD/CVD Operations, Office 1, Import Administration, International Trade Administration, U.S. Department of Commerce, 14th Street and Constitution Avenue, NW., Washington, DC 20230; telephone: (202) 482-1293 or (202) 482-0196, respectively.

SUPPLEMENTARY INFORMATION:

Background

On November 1, 2010, the Department published the notice of initiation of the third sunset review of the antidumping duty order on PTFE resin from Italy pursuant to section 751(c) of the Tariff Act of 1930, as amended (“the Act”). See Initiation of Five-Year (“Sunset”) Review, 75 FR 67082 (November 1, 2010) (“Initiation Notice”). On January 12, 2011, the Federal Register published a correction to that notice, indicating that an incorrect product name for this case was listed in the Initiation Notice. See Initiation of Five-Year (“Sunset”) Review: Correction, 76 FR 2083 (January 12, 2011) (“Correction Notice”). We allowed interested parties an extension of time in which to file a notice of intent to participate and substantive responses. On January 13, 2011, we also notified the International Trade Commission (“ITC”) of these new deadlines. On January 12, 2011, the Department received a notice of intent to participate from a domestic interested party, E.I. DuPont de Nemours & Co. (“DuPont” or “domestic interested party”). Submission of the notice of intent to participate was filed by DuPont within the deadline specified in 19 CFR 351.218(d)(1)(i), as extended due to the Correction Notice. DuPont claimed interested party status under section 771(9)(C) of the Act, as a producer of PTFE resin in the United States. On February 11, 2011, the Department received a substantive response from the domestic interested party within the deadline specified in 19 CFR 351.218(d)(3)(i), as extended due to the Correction Notice. We received no substantive responses from any respondent interested parties. As a result, pursuant to section 751(c)(3)(B) of the Act and 19 CFR 351.218(e)(1)(ii)(C)(2), the Department is conducting an expedited sunset review of the antidumping duty order.

Scope of the Order

The product covered by the order is PTFE resin, filled or unfilled. The order also covers PTFE wet raw polymer exported from Italy to the United States. See Granular Polytetrafluoroethylene Resin From Italy; Final Affirmative Determination of Circumvention of Antidumping Duty Order, 58 FR 26100 (April 30, 1993). The order excludes PTFE dispersions in water and fine powders. During the period covered by this review, such merchandise was classified under item number 3904.61.00 of the Harmonized Tariff Schedule of the United States (“HTSUS”). We are providing this HTSUS number for convenience and customs purposes only. The written description of the scope remains dispositive.

Analysis of Comments Received

All issues raised in this review are addressed in the Issues and Decision Memorandum (“Decision Memorandum”) from Gary Taverman, Acting Deputy Assistant Secretary for Antidumping and Countervailing Duty Operations, to Ronald K. Lorentzen, Deputy Assistant Secretary for Import Administration, dated March 1, 2011, which is hereby adopted by this notice. The issues discussed in the Decision Memorandum include the likelihood of continuation or recurrence of dumping and the magnitude of the margins likely to prevail if the order were revoked. Parties can find a complete discussion of all issues raised in this review and the corresponding recommendations in this public memorandum, which is on file in the Central Records Unit in room 7046 of the main Commerce building. In addition, a complete version of the Decision Memorandum can be accessed directly on the Internet at http://ia.ita.doc.gov/frn. The paper copy and electronic version of the Decision Memorandum are identical in content.

Final Results of Review

Pursuant to sections 752(c)(1) and (3) of the Act, we determine that revocation of the antidumping duty order on PTFE resin from Italy would be likely to lead to continuation or recurrence of dumping at the following percentage margins:

Manufacturer/exporter | Weighted-average margin (percent)
Montefluos S.p.A./Ausimont U.S.A.¹ | 46.46
All Others | 46.46

This notice also serves as the only reminder to parties subject to administrative protective order (“APO”) of their responsibility concerning the return or destruction of proprietary information disclosed under APO in accordance with 19 CFR 351.305. Timely notification of the return or destruction of APO materials or conversion to judicial protective order is hereby requested. Failure to comply with the regulations and terms of an APO is a violation which is subject to sanction. We are issuing and publishing the results and notice in accordance with sections 751(c), 752(c), and 777(i)(1) of the Act.

¹ Solvay Solexis S.p.A. and Solvay Solexis, Inc. are successors-in-interest to Ausimont S.p.A. and Ausimont U.S.A. Inc. See Granular Polytetrafluoroethylene Resin from Italy; Final Results of Changed Circumstances Review, 68 FR 25327 (May 12, 2003).

Dated: March 1, 2011.
Ronald K. Lorentzen,
Deputy Assistant Secretary for Import Administration.

[FR Doc. 2011-5373 Filed 3-8-11; 8:45 am]

BILLING CODE 3510-DS-P